NUCLEAR REGULATORY COMMISSION

Draft Report for Comment: Office of Nuclear Reactor Regulation Standard Review Plan, Section 12.5, “Operational Radiation Protection Program”

AGENCY: Nuclear Regulatory Commission.

ACTION: Notice of availability and request for comments.

SUMMARY: The U.S. Nuclear Regulatory Commission's (NRC) Office of Nuclear Reactor Regulation (NRR) has issued Section 12.5, Draft Revision 3, “Operational Radiation Protection Program,” of NUREG-0800, “Standard Review Plan for the Review of Safety Analysis Reports for Nuclear Power Plants, LWR Edition” for public comment.

DATES: Comments on this draft document should be submitted by April 3, 2006. Comments received after that date will be considered to the extent practicable. To ensure efficient and complete comment resolution, comments should include references to the section, page, and line numbers of the document to which the comment applies.

ADDRESSES: NUREG-0800, including Section 12.5, draft Revision 3, is available for inspection and copying for a fee at the Commission's Public Document Room, NRC's Headquarters Building, 11555 Rockville Pike (First Floor), Rockville, Maryland. The Public Document Room is open from 7:45 a.m. to 4:15 p.m., Monday through Friday, except on Federal holidays. NUREG-0800, including Section 12.5, draft Revision 3 is also available electronically on the NRC Web site at: http://www.nrc.gov/reading-rm/doc-collections/nuregs/staff/sr0800/, and from the ADAMS Electronic Reading Room on the NRC Web site at: http://www.nrc.gov/reading-rm/adams.html.

Members of the public are invited and encouraged to submit written comments. Comments may be accompanied by additional relevant information or supporting data. A number of methods may be used to submit comments. Written comments should be mailed to Chief, Rules Review and Directives Branch, U.S. Nuclear Regulatory Commission, Mail Stop T6-D59, Washington, DC 20555-0001. Hand-deliver comments to: 11555 Rockville Pike, Rockville, MD, between 7:30 a.m. and 4:15 p.m., Federal workdays. Comments may be submitted electronically to: nrcrep@nrc.gov. Comments also may be submitted electronically through the comment form available on the NRC Web site at: http://www.nrc.gov/reading-rm/doc-collections/nuregs/staff/sr0800/.

Please specify the report number NUREG-0800, Section 12.5, draft Revision 3, in your comments, and send your comments by April 3, 2006.

FOR FURTHER INFORMATION, CONTACT: Roger L. Pedersen, Mail Stop O-6F12, U.S. Nuclear Regulatory Commission, Washington, DC 20555-0001. Telephone: (301) 415-3162; Internet: rlp1@nrc.gov.

SUPPLEMENTARY INFORMATION: The Standard Review Plan (SRP) is prepared for the guidance of staff reviewers in the Office of Nuclear Reactor Regulation in performing safety reviews of applications to construct or operate nuclear power plants and the review of applications to approve standard designs and sites for nuclear power plants. The principal purpose of the SRP is to assure the quality and uniformity of staff safety reviews. It is also the intent of this plan to make information about regulatory matters widely available and to improve communication between the NRC, interested members of the public, and the nuclear power industry, thereby increasing understanding of the review process.

SRP Section 12.5 provides staff guidance for the review of operational aspects of the radiation protection program. The proposed revision updates the July 1981 version (Revision 2) of the SRP section, and includes most of the changes introduced in the draft revision, dated April 1996. The changes consist mostly of revising the references to 10 CFR part 20; assigning different responsibilities to the primary and secondary branches because of office reorganizations; editorial and formatting changes as part of the SRP update effort; and updating several references. The revision also adds standard paragraphs to extend application of the updated SRP section to the design certification reviews as well as to extend implementation of this section to submittals by applicants pursuant to 10 CFR part 50 or 10 CFR part 52.

The Section 12.5 Acceptance Criteria has been revised to reflect several changes made to 10 CFR Part 20 since the 1981 version of the SRP. Most significant of these was the 1991 major revision (56 FR 23391, May 21, 1991, as revised at 60 FR 20185, April 25, 1995), which changed the basis of the radiation dose limits (e.g., Effective Dose), added several new limits (i.e., dose limits for embryo/fetus, Planned Special Exposures, a lower dose limit for members of the public, etc.) and completely renumbered the paragraphs. Also, new requirements in 10 CFR 20.1406, “Minimization of Contamination” (63 FR 39088, July 21, 1997), and 10 CFR 20 Subpart H, “Respiratory Protection” (64 FR 54556, October 7, 1999, as revised at 67 FR 77652, December 19, 2002) have been added. In addition, two new sections were added to the Acceptance Criteria. These are: “D. Program Implementation,” which addresses the phased-in program implementation by a Combined Operating License applicant; and “E. Technical Rationale,” which gives the technical basis for each of the acceptance criteria.

Section VI, REFERENCES has been updated by removing outdated or withdrawn Regulatory Guides, NUREGs, and industry standards; revising references to the current titles of several guides and standards; adding references to new industry standards that supercede withdrawn standards; and adding the Regulatory Guides issued in support of the 1991 revision to 10 CFR 20.

Dated at Rockville, MD, this 22nd day of December, 2005.
For the Nuclear Regulatory Commission.
Stephen P. Klementowicz,
Acting Chief, Health Physics Branch, Division of Inspection and Regional Support, Office of Nuclear Reactor Regulation.

[FR Doc. E6-1202 Filed 1-30-06; 8:45 am]

BILLING CODE 7590-01-P